GENERAL SERVICES ADMINISTRATION

[Notice-MA-2022-10; Docket No. 2022-0002; Sequence No. 22]

Federal Advisory Committee Act (FACA); Database Cost Reporting

AGENCY: Office of Government-wide Policy (OGP), General Services Administration (GSA).

ACTION: Notice of FMR Bulletin 2022-F1, database cost reporting.

SUMMARY: FMR Bulletin 2022-F1. This bulletin clarifies, highlights, and reminds agencies of the importance of accurately reporting the cost of federal advisory committees to Congress and the public. It also adds the requirement to include financial reporting instructions in agency administrative procedures. This requirement will result in greater assurance that data reported in the FACA database is consistent with agencies' actual costs, and Congress will have greater assurance that it can rely on these data to inform decisions about funding for FACA committees.

DATES: Applicable: September 28, 2022.

FOR FURTHER INFORMATION CONTACT: For clarification of content, contact Ms. Lorelei Kowalski, Director of the Committee Management Secretariat, Office of Government-wide Policy by email at Lorelei.kowalski@gsa.gov. Please cite Notice of FMR Bulletin 2022-F1.

SUPPLEMENTARY INFORMATION: The Federal Advisory Committee Act (FACA), as amended, 5 U.S.C. App. 2, requires that:

• Each agency keep records of advisory committee funds that can be audited by the Comptroller General (§ 12(a))

• Congress and the public to be kept informed with respect to the cost of advisory committees (§ 2(b)(5))

• The GSA Administrator institute an annual comprehensive review (ACR) of the activities and responsibilities of advisory committees (§ 7(b))

• Each agency head must establish uniform administrative guidelines and management controls for the advisory committees established by that agency (§ 8(a))

During a recent evaluation of 11 selected committees covered under the Federal Advisory Committee Act (FACA) that serve the Departments of Commerce, Health and Human Services, and the Treasury, the Government Accountability Office determined that approximately 29 percent of selected committees' cost data reported in the GSA FACA database were inconsistent with the corresponding cost data held in agency records. FMR bulletin 2022-F1 clarifies the procedures and requirements for reporting agency cost data to Congress and the public, to improve the quality of data reporting from agencies.

FMR Bulletin 2022-F1 can be viewed in its entirety at https://www.google.com/url?q=https://www.gsa.gov/policy-regulations/policy/federal-advisory-committee-management/advice-and-guidance.

Krystal J. Brumfield,
Associate Administrator, Office of Government-wide Policy.

[FR Doc. 2022-20972 Filed 9-27-22; 8:45 am]

BILLING CODE 6820-14-P